DEPARTMENT OF AGRICULTURE

7 CFR Part 2

Delegations of Authority

CFR Correction

In Title 7 of the Code of Federal Regulations, Parts 1 to 26, revised as of Jan. 1, 2010, on page 139, in § 2.16, paragraph (L) which follows paragraph (xv) is moved to follow paragraph (K) on page 138.

[FR Doc. 2010-32952 Filed 12-28-10; 8:45 am]

BILLING CODE 1505-01-D